DEPARTMENT OF LABOR

Occupational Safety and Health Administration

[Docket No. OSHA-2011-0033]

Standard on the Control of Hazardous Energy (Lockout/Tagout); Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements contained in the Standard on the Control of Hazardous Energy (Lockout/Tagout).

DATES: Comments must be submitted (postmarked, sent, or received) by February 22, 2021.

ADDRESSES: Electronically: You may submit comments, including attachments, electronically at http://www.regulations.gov, the Federal eRulemaking Portal. Follow the instructions online for submitting comments.

Facsimile: If your comments, including attachments, do not exceed 10 pages, you may fax them to the OSHA Docket Office at (202) 693-1648.

Regular mail, express delivery, hand (courier) delivery, and messenger service: When using these methods, you must submit a copy of your comments and attachments to the OSHA Docket Office, OSHA Docket No. OSHA-2011-0033, Occupational Safety and Health Administration, U.S. Department of Labor, Room N-3653, 200 Constitution Avenue NW, Washington, DC 20210. Please note: While OSHA's Docket Office is continuing to accept and process submissions by regular mail, due to the COVID-19 pandemic, the Docket Office is closed to the public and not able to received submissions to the docket by hand, express mail, messenger, and courier service.

Instructions: All submissions must include the agency name and the OSHA docket number for this Federal Register notice (OSHA-2011-0033). Because of security-related procedures, submissions by regular mail may result in a significant delay in receipt. OSHA will place comments and requests to speak, including personal information, in the public docket, which may be available online. Therefore, OSHA cautions interested parties about submitting personal information such as Social Security numbers and birthdates. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download through the website. All submissions, including copyrighted material, are available for inspection and copying at the OSHA Docket Office. You may also contact Theda Kenney at (202) 693-2222 to obtain a copy of the ICR.

FOR FURTHER INFORMATION CONTACT: Seleda Perryman or Theda Kenney, Directorate of Standards and Guidance, OSHA, U.S. Department of Labor, telephone (202) 693-2222.

SUPPLEMENTARY INFORMATION:

I. Background

The Department of Labor, as part of a continuing effort to reduce paperwork and respondent (i.e., employer) burden, conducts a preclearance process to provide the public with an opportunity to comment on proposed and continuing information collection requirements in accordance with the Paperwork Reduction Act of 1995 (PRA) (44 U.S.C. 3506(c)(2)(A)). This program ensures that information is in the desired format, the reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act, or for developing information regarding the causes and prevention of occupational injuries, illnesses, and accidents (29 U.S.C. 657). The OSH Act also requires OSHA to obtain such information with a minimum burden upon employers, especially those operating small businesses, and to reduce to the maximum extent feasible unnecessary duplication of effort in obtaining said information (29 U.S.C. 657).

The Standard on the Control of Hazardous Energy (also referred to as the “Lockout/Tagout Standard”), 29 CFR 1910.147, contains several information collection requirements, which are described below. The purpose of these requirements is to control the release of hazardous energy while workers service, maintain, or repair machines or equipment when activation, start up, or release of energy from an energy source is possible; proper control of hazardous energy prevents death or serious injury among these workers.

Energy Control Procedure (Paragraph (c)(4)(i))

With limited exception, employers must document the procedures used to isolate from its energy source and render inoperative, any machine or equipment prior to servicing, maintenance, or repair by workers. These procedures are necessary when activation, start up, or release of stored energy from the energy source is possible, and such release could cause injury to the workers.

Paragraph (c)(4)(ii) states that the required documentation must clearly and specifically outline the scope, purpose, authorization, rules, and techniques workers are to use to control hazardous energy, and the means to enforce compliance. The document must include at least the following elements: A specific statement regarding the use of the procedure; detailed procedural steps for shutting down, isolating, blocking, and securing machines or equipment to control hazardous energy; detailed procedural steps for placing, removing, and transferring lockout or tagout devices, including the responsibility for doing so; and requirements for testing a machine or equipment to determine and verify the effectiveness of lockout or tagout devices, as well as other energy control measures.

Protective Materials and Hardware (Paragraphs (c)(5)(ii)(D) and (c)(5)(iii))

Paragraph (c)(5)(ii)(D) requires that lockout and tagout devices indicate the identity of the employee applying it. Paragraph (c)(5)(iii) requires that tags warn against hazardous conditions if the machine or equipment is energized. In addition, the tag must include a legend such as one of the following: Do Not Start; Do Not Open; Do Not Close; Do Not Energize; Do Not Operate.

Periodic Inspection Certification Records (Paragraph (c)(6)(ii))

Under paragraph (c)(6)(i), employers are to conduct inspections of energy control procedures at least annually. An authorized worker (other than an authorized worker using the energy control procedure that is the subject of the inspection) is to conduct the inspection and correct any deviations or inadequacies identified. For procedures involving either lockout or tagout, the inspection must include a review, between the inspector and each authorized worker, of that worker's responsibilities under the procedure; for procedures using tagout systems, the review also involves affected workers, and includes an assessment of the workers' knowledge of the training elements required for these systems. Paragraph (c)(6)(ii) requires employers to certify the inspection by documenting the date of the inspection and identifying the machine or equipment inspected, the workers included in the inspection, and the worker who performed the inspection.

Training Certification Records (Paragraph (c)(7)(iv))

Under paragraph (c)(7)(iv), employers are to certify that workers completed the required training, and that this training is up-to-date. The certification is to contain each worker's name and the training date. Written certification of the training assures the employer that workers receive the training specified by the standard.

Notification of Employees (Paragraph (c)(9))

This provision requires the employer or authorized worker to notify affected workers prior to applying, and after removing, a lockout or tagout device from a machine or equipment.

Off-Site Personnel (Contractors, etc.) (Paragraph (f)(2)(i))

When the on-site employer uses an off-site employer (e.g., a contractor) to perform the activities covered by the scope and application of the standard, the two employers must inform each other regarding their respective lockout or tagout procedures.

II. Special Issues for Comment

OSHA has a particular interest in comments on the following issues:

• Whether the proposed information collection requirements are necessary for the proper performance of the agency's functions, including whether the information is useful;

• The accuracy of OSHA's estimate of the burden (time and costs) of the information collection requirements, including the validity of the methodology and assumptions used;

• The quality, utility, and clarity of the information collected; and

• Ways to minimize the burden on employers who must comply—for example, by using automated or other technological information collection and transmission techniques.

III. Proposed Actions

OSHA is requesting an adjustment decrease of 126,403.49 burden hours (from 2,749,315 hours to 2,622,911.51 hours). This decrease is the result of updated data showing a decrease in the number of affected high-impact establishments (from 292,825 to 290,560 establishments). In addition, OSHA is requesting an adjustment decrease of $102,032.08 in operation and maintenance costs (from $1,472,686.00 to $1,370,653.92) associated with the purchase of tags and ties by employers. This decrease is also a result of updated data showing a reduction of the number of high-impact establishments.

Type of Review: Extension of a currently approved collection.

Title: Standard on the Control of Hazardous Energy (Lockout/Tagout).

OMB Control Number: 1218-0150.

Affected Public: Business or other for-profits.

Number of Respondents: 773,209.

Frequency: Initially; Annually; On occasion.

Average Time per Response: Varies.

Estimated Number of Responses: 69,257,657.

Estimated Total Burden Hours: 2,622,911.51.

Estimated Cost (Operation and Maintenance): $1,370,653.92.

IV. Public Participation—Submission of Comments on This Notice and internet Access to Comments and Submissions

You may submit comments in response to this document as follows: (1) Electronically at http://www.regulations.gov, which is the Federal eRulemaking Portal; (2) by facsimile (fax); or (3) by hard copy. Please note: While OSHA's Docket Office is continuing to accept and process submissions by regular mail, due to the COVID-19 pandemic, the Docket Office is closed to the public and not able to receive submissions to the docket by hand, express mail, messenger, and courier service. All comments, attachments, and other material must identify the agency name and the OSHA docket number for the ICR (Docket No. OSHA-2011-0033). You may supplement electronic submissions by uploading document files electronically. If you wish to mail additional materials in reference to an electronic or facsimile submission, you must submit them to the OSHA Docket Office (see the section of this notice titled ADDRESSES). The additional materials must clearly identify electronic comments by your name, date, and the docket number so that the agency can attach them to your comments.

Due to security procedures, the use of regular mail may cause a significant delay in the receipt of comments.

Comments and submissions are posted without change at http://www.regulations.gov. Therefore, OSHA cautions commenters about submitting personal information such as social security numbers and dates of birth. Although all submissions are listed in the http://www.regulations.gov index, some information (e.g., copyrighted material) is not publicly available to read or download through this website. All submissions, including copyrighted material, are available for inspection and copying at the OSHA Docket Office. Information on using the http://www.regulations.gov website to submit comments and access the docket is available at the website's “User Tips” link. Contact the OSHA Docket Office at (202) 693-2350, (TTY (877) 889-5627) for information about materials not available through the website, and for assistance in using the internet to locate docket submissions.

V. Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on December 18, 2020.
Loren Sweatt,
Principal Deputy Assistant Secretary of Labor for Occupational Safety and Health.

[FR Doc. 2020-28372 Filed 12-22-20; 8:45 am]

BILLING CODE 4510-26-P